Title 3—

The President

Memorandum of May 5, 2006

Assignment of Functions Relating to Import Restrictions on Iraqi Antiquities

Memorandum for the Secretary of State and the Secretary of Homeland Security

Pursuant to the authority vested in me by the Constitution and laws of the United States, including section 301 of title 3, United States Code, the functions of the President under section 3002 of the Emergency Protection for Iraqi Cultural Antiquities Act of 2004 (title III of Public Law 108-429) are assigned to the Secretary of State. In the performance of such functions, the Secretary of State shall consult the Secretary of Homeland Security and the heads of other departments and agencies, as appropriate.

The Secretary of State is authorized and directed to publish this memorandum in the Federal Register.

B

THE WHITE HOUSE,

Washington May 5, 2006.

[FR Doc. 06-4658

Filed 5-16-06; 10:06 am]

Billing code 4710-10-P